DEPARTMENT OF TRANSPORTATION

Federal Aviation Administration

14 CFR Part 39

[Docket No. 2003-NM-274-AD]

RIN 2120-AA64

Airworthiness Directives; Airbus Model A300 B2 and A300 B4; Model A300 B4-600, B4-600R, C4-605R Variant F, and F4-600R (Collectively Called A300-600); and Model A310 Series Airplanes

AGENCY: Federal Aviation Administration, DOT.

ACTION: Notice of proposed rulemaking (NPRM).

SUMMARY: This document proposes the adoption of a new airworthiness directive (AD) that is applicable to certain Airbus Model A300 B2 and A300 B4; Model A300 B4-600, B4-600R, C4-605R Variant F, and F4-600R (collectively called A300-600); and Model A310 series airplanes. This proposal would require an inspection to determine the part number of certain passenger/crew escape slides; and related investigative action and corrective action, if necessary. This action is necessary to prevent the failure of an escape slide to deploy during emergency evacuation, which could impede an evacuation and result in injury to flightcrew and passengers. This action is intended to address the identified unsafe condition.

DATES: Comments must be received by June 2, 2004.

ADDRESSES: Submit comments in triplicate to the Federal Aviation Administration (FAA), Transport Airplane Directorate, ANM-114, Attention: Rules Docket No. 2003-NM-274-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-274-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Anthony Jopling, Aerospace Engineer, International Branch, ANM-116, FAA, Transport Airplane Directorate, 1601 Lind Avenue, SW., Renton, Washington 98055-4056; telephone (425) 227-2190; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-274-AD.” The postcard will be date stamped and returned to the commenter.

Availability of NPRMs

Any person may obtain a copy of this NPRM by submitting a request to the FAA, Transport Airplane Directorate, ANM-114, Attention: Rules Docket No. 2003-NM-274-AD, 1601 Lind Avenue, SW., Renton, Washington 98055-4056.

Discussion

The Direction Générale de l'Aviation Civile (DGAC), which is the airworthiness authority for France, notified the FAA that an unsafe condition may exist on certain Airbus Model A300 B2 and A300 B4; Model A300 B4-600, B4-600R, C4-605R Variant F, and F4-600R (collectively called A300-600); and Model A310 series airplanes. The DGAC advises that, after a precautionary emergency landing of an A310-200 series airplane, the left-hand passenger/crew door slide failed to deploy prior to flightcrew evacuation. Subsequent examination of the affected escape slide assembly showed that an incorrect girt had been installed during the last overhaul, which caused the malfunction. This condition, if not corrected, could result in the failure of an escape slide to deploy during emergency evacuation, which could impede and evacuation and result in injury to flightcrew and passengers.

The subject area on certain Model A300 B2 and A300 B4; Model A300 B4-600, B4-600R, C4-605R Variant F, and F4-600R (collectively called A300-600); and Model A310-300 series airplanes is almost identical to that on the affected Model A310-200 series airplanes. Therefore, those airplanes may be subject to the same unsafe condition revealed on the Model A310-200 series airplanes.

Explanation of Relevant Service Information

Airbus has issued Service Bulletin A300-25A0475, dated October 3, 2003 (for Model A300 B2 and A300 B4 series airplanes); Service Bulletin A300-25A6184, dated October 3, 2003 (for Model A300 B4-600, B4-600R, C4-605R Variant F, and F4-600R (collectively called A300-600) series airplanes); and Service Bulletin A310-25A2165, dated October 3, 2003 (for Model A310 series airplanes). These service bulletins describe procedures for inspecting to determine the part number (P/N) of the evacuation slides installed on the passenger/crew doors; and related investigative and corrective actions for airplanes fitted with Goodrich slides having P/Ns 7A1296-001, 7A1296-002, 7A1298-001, or 7A1298-002. The related investigative action is inspecting the slide for installation of a girt with the correct P/N. If the slide is found to have an incorrect girt P/N, the related corrective action is returning the slide to an approved service center for modification, and re-installing an escape slide with the correct P/N and girt.

These service bulletins reference Goodrich Alert Service Bulletin 7A1296/7A1298-25A345, dated October 15, 2003, as an additional source of service information for accomplishment of the inspection and modification.

Accomplishment of the actions specified in the Airbus service bulletins is intended to adequately address the identified unsafe condition.

The DGAC classified the Airbus service bulletins as mandatory and issued French airworthiness directive F-2003-435, dated December 10, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously.

Cost Impact

The FAA estimates that 202 airplanes of U.S. registry would be affected by this proposed AD, that it would take approximately 3 work hours per slide to accomplish the proposed inspection, and that the average labor rate is $65 per work hour. Based on these figures, the cost impact of the proposed AD on U.S. operators is estimated to be $195 per slide.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-274-AD.

Applicability: Model A300 B2 and A300 B4; Model A300 B4-600, B4-600R, C4-605R Variant F, and F4-600R (collectively called A300-600); and Model A310 series airplanes; equipped with Goodrich escape slides; certificated in any category.

Compliance: Required as indicated, unless accomplished previously.

To prevent the failure of an escape slide to deploy during emergency evacuation, which could impede an evacuation and result in injury to flightcrew and passengers, accomplish the following:

Service Bulletin Reference

(a) The term “service bulletin,” as used in this AD, means the Accomplishment Instructions of the following service bulletins, as applicable:

(1) For Model A300 B2 and A300 B4 series airplanes: Airbus Service Bulletin A300-25A0475, dated October 3, 2003;

(2) For Model A300 B4-600, B4-600R, C4-605R Variant F, and F4-600R (collectively called A300-600) series airplanes: Airbus Service Bulletin A300-25A6184, dated October 3, 2003; and

(3) For Model A310 series airplanes: Airbus Service Bulletin A310-25A2165, dated October 3, 2003.

Note 1: These service bulletins reference Goodrich Alert Service Bulletin 7A1296/7A1298-25A345, dated October 15, 2003, as an additional source of service information for accomplishment of the inspection and modification.

Inspections and Corrective Action

(b) Within 180 days after the effective date of this AD: Do an inspection to determine the part number (P/N) of the passenger/crew door escape slides. If any Goodrich P/N 7A1298-001, 7A1298-002, 7A1296-001, or 7A1296-002 is found during the inspection, prior to further flight, do the related investigative action, any applicable corrective action, and replace the slide with a new or modified slide which has a girt with the correct P/N. Do all actions per the applicable service bulletin.

Parts Installation

(c) As of the effective date of this AD, no person may install on any airplane a Goodrich escape slide having P/N 7A1298-001, 7A1298-002, 7A1296-001, or 7A1296-002, unless the related investigative and any applicable corrective action has been done per paragraph (b) of this AD.

Alternative Methods of Compliance

(d) In accordance with 14 CFR 39.19, the Manager, International Branch, ANM-116, FAA, Transport Airplane Directorate, is authorized to approve alternative methods of compliance for this AD.

Note 2: The subject of this AD is addressed in French airworthiness directive F-2003-435, dated December 10, 2003.

Issued in Renton, Washington, on April 21, 2004.
Kalene C. Yanamura,
Acting Manager, Transport Airplane Directorate, Aircraft Certification Service.

[FR Doc. 04-9903 Filed 4-30-04; 8:45 am]

BILLING CODE 4910-13-P